DEPARTMENT OF ENERGY

Federal Energy Regulatory Commission

[Project No. 6641-046-Kentucky]

City of Marion, Kentucky, Smithland Hydroelectric Partners; Notice of Availability of Environmental Assessment

September 20, 2002.

In accordance with the National Environmental Policy Act of 1969, as amended, and the Federal Energy Regulatory Commission's (Commission) regulations (18 CFR part 380), Commission staff have reviewed an application for a non-capacity related license amendment at the Smithland Project (FERC No. 6641), and have prepared an Environmental Assessment (EA) on the application. The project is located on the Ohio River in Livingston County, Kentucky.

Specifically, the project licensees (City of Marion, Kentucky and Smithland Hydroelectric Partners) have requested Commission approval to amend the present license by changing the location of the transmission line. In the EA, Commission staff have analyzed the probable environmental effects of the proposed transmission line construction and have concluded that approval of the proposal, with appropriate environmental measures, would not constitute a major Federal action significantly affecting the quality of the human environment.

Copies of the EA are available for review in Public Reference Room 2-A of the Commission's offices at 888 First Street, NE., Washington, DC. The EA also may be viewed on the Commission's Internet website (www.ferc.gov) using the “FERRIS” link. Additional information about the project is available from the Commission's Office of External Affairs, at (202) 502-6088 or on the Commission's website using the FERRIS link. Click on the FERRIS link, enter the docket number excluding the last three digits in the Docket Number field. Be sure you have selected an appropriate date range. For assistance with FERRIS, the FERRIS helpline can be reached at (202) 502-8222, TTY (202) 502-8659. The FERRIS link on the FERC's Internet website also provides access to the texts of formal documents issued by the Commission, such as orders, notices, and rulemakings.

Magalie R. Salas,
Secretary.

[FR Doc. 02-24563 Filed 9-26-02; 8:45 am]

BILLING CODE 6717-01-P